DEPARTMENT OF TRANSPORTATION

Federal Railroad Administration

[Docket Number FRA-2012-0032]

Petition for Waiver of Compliance

In accordance with Part 211 of Title 49 Code of Federal Regulations (CFR), notice is hereby given that the Federal Railroad Administration (FRA) has received a request for a waiver of compliance from certain requirements of its safety standards. The South Carolina Railroad Museum (SCRM) has petitioned the Federal Railroad Administration (FRA) for a waiver of compliance from certain provisions of the Federal railroad safety regulations contained at 49 CFR Part 213. FRA assigned the petition Docket Number FRA-2012-0032.

In its waiver request, SCRM petitioned FRA for a waiver from 49 CFR Section 213.233(c), which requires twice-weekly track inspections with at least 1 calendar day interval between inspections if the track carries passenger trains or more than 10 million gross tons of traffic during the preceding calendar year.

The petitioner is a volunteer, nonprofit 501(c)(3) Class III railroad museum that is located in Fairfield County near Winnsboro, SC, and is listed on the National Register of Historic Places. SCRM operates passenger trains on approximately 5 miles of the 11½-mile former Rockton and Rion Railroad. The passenger trains operate from the Norfolk Southern junction, generally westward from Rockton, SC, through the community of Rion, SC, to the Anderson Quarry. SCRM states that it schedules two passenger excursions each Saturday from Memorial Day through Labor Day; for a total of 30 roundtrips. Additionally, SCRM states that it charters passenger trains on an as-needed basis; usually, no more than three passenger trains are operated overall per week. The petitioner seeks relief from the twice weekly track inspections and requests to conduct one track inspection each week. SCRM states, “* * * one track inspection each week would allow the museum to insure the safety of the track for the average of 3 trips or less that are operated during our summer and fall operating seasons.”

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 9, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on May 21, 2012.
Ron Hynes,
Acting Deputy Associate Administrator for Regulatory and Legislative Operations.

[FR Doc. 2012-12784 Filed 5-24-12; 8:45 am]

BILLING CODE 4910-06-P